DEPARTMENT OF HEALTH AND HUMAN SERVICES

Administration for Children and Families

Office of Refugee Resettlement; Unaccompanied Alien Children Shelter Care Facilities

AGENCY: Office of Refugee Resettlement, ACF, DHHS.

ACTION: Notice to award ten non-competitive supplements to existing Unaccompanied Alien Children (UAC) Shelter Care Facilities.

CFDA #: 93.676.

Legslative Authority: The Office of Refugee Resettlement (ORR) is mandated by Section 462 of the Homeland Security Act to ensure appropriate placement of all unaccompanied alien children referred to ORR for care and custody by the Department of Homeland Security (DHS).

Amount of Award: $2,521,320.

SUMMARY: This notice announces that the Administration for Children and Families (ACF), Office of Refugee Resettlement intends to award ten unaccompanied alien shelter care providers in the amount of $2,521,320. This funding will support services through September 30, 2008.

Grantee | Location | Project period | Amount
Southwest Key—El Paso | El Paso, TX | 06/10/08-09/30/08 | $390,320
The Children's Village | New York, NY | 06/10/08-09/30/08 | 445,000
Florence Crittenton | Los Angeles, CA | 06/10/08-09/30/08 | 336,000
Lutheran Social Services of the South | Austin, TX | 06/10/08-09/30/08 | 600,000
Heartland/ICC | Chicago, IL | 06/10/08-09/30/08 | 325,000
Southwest Indiana Youth Village | Vincennes, IN | 06/10/08-09/30/08 | 120,000
International Educational Services—Foster Care | Brownsville, TX | 06/10/08-09/30/08 | 90,000
International Educational Services—Foster Care | Harlingen, TX | 06/10/08-09/30/08 | 70,000
Pioneer Services | Fife, WA | 06/10/08-09/30/08 | 85,000
Southwest Key—Pleasant Hill | Pleasant Hill, CA | 06/10/08-09/30/08 | 60,000

This funding will support the expansion of shelter/foster/staff secure/secured/therapeutic care program bed capacity to meet the number of unaccompanied alien children referrals from the Department of Homeland Security (DHS). This expansion is necessary to replace bed capacity discontinued at several sites as well as to accommodate the increase of length of stay of UAC in ORR's care. This supplemental funding will support the additional bed capacity through the summer high season, terminating at the end of the 2008 fiscal year.

To ensure the program would have complete flexibility to expand and contract to meet the ever-changing demands of the program, ORR specifically included language in its program announcement to stipulate that funding and capacity may increase based on the needs of the program. The program has very specific requirements for the provision of services. Existing grantees are the only entities with the infrastructure, licensing, experience and appropriate level of trained staff to meet the service requirements and the urgent need for expansion. The program's ability to avoid a backlog of children waiting in border patrol stations for placement can only be accommodated through the expansion of existing programs through this supplemental award process.

FOR FURTHER INFORMATION CONTACT: Kenneth Tota, Office of Refugee Resettlement, Administration for Children and Families, 370 L'Enfant Promenade, SW., Washington, DC 20447, telephone (202) 401-4858.

Dated: June 17, 2008.
David H. Siegel,
Acting Director, Office of Refugee Resettlement.

[FR Doc. E8-14429 Filed 6-25-08; 8:45 am]

BILLING CODE 4184-01-P